DEPARTMENT OF ENERGY

[Docket ID: DOE-HQ-2010-0002]

10 CFR Part 1021

RIN 1990-AA34

National Environmental Policy Act Implementing Procedures

AGENCY: Office of the General Counsel, U.S. Department of Energy.

ACTION: Proposed rule: re-opening of public comment period.

SUMMARY: The U.S. Department of Energy (DOE) is re-opening the public comment period for proposed amendments to its regulations governing compliance with the National Environmental Policy Act (NEPA), made available for public comment on January 3, 2011 (76 FR 214). This is being done in response to a request on behalf of multiple organizations.

DATES: The public comment period ended on February 17, 2011. The comment period is being re-opened and will close on March 7, 2011.

ADDRESSES: Submit comments, labeled “DOE NEPA Implementing Procedures, RIN 1990-AA34,” by one of the following methods:

1. Federal eRulemaking Portal: http://www.regulations.gov. Follow the online instructions for submitting comments electronically. This rulemaking is assigned Docket ID: DOE-HQ-2010-0002. Comments may be entered directly on the Web site. Electronic files may be submitted to this Web site.

2. Mail: Mail comments to NEPA Rulemaking Comments, Office of NEPA Policy and Compliance (GC-54), U.S. Department of Energy, 1000 Independence Avenue, SW., Washington, DC 20585. Because security screening may delay mail sent through the U.S. Postal Service, DOE encourages electronic submittal of comments.

FOR FURTHER INFORMATION CONTACT: For general information about DOE's NEPA procedures, contact Ms. Carol Borgstrom, Director, Office of NEPA Policy and Compliance, at 202-586-4600 or leave a message at 800-472-2756. For questions concerning how to comment on this proposed rule, contact Ms. Yardena Mansoor, Office of NEPA Policy and Compliance, at askNEPA@hq.doe.gov or 202-586-9326.

SUPPLEMENTARY INFORMATION: On January 3, 2011, DOE published a Notice of Proposed Rulemaking in the Federal Register (76 FR 214) to invite public comment on proposed amendments to its existing regulations governing compliance with NEPA and announce a public hearing. The notice provided for the submission of comments by February 17, 2011, including at a public hearing held on February 4, 2011. The National Wildlife Federation, on behalf of itself and nine other organizations, requested DOE to extend the comment period to allow additional time for review of the proposed rule and the submission of comments. DOE has determined that re-opening the public comment period in response to this request is appropriate and hereby re-opens the comment period. DOE will consider any comments received between February 23, 2011 and March 7, 2011, and deems any comments received between publication of the Notice of Proposed Rulemaking on January 3, 2011, and March 7, 2011, to be timely submitted.

Issued in Washington, DC, on February 16, 2011.
Eric J. Fygi,
Acting General Counsel.

[FR Doc. 2011-3981 Filed 2-22-11; 8:45 am]

BILLING CODE 6450-01-P